ENVIRONMENTAL PROTECTION AGENCY

48 CFR Part 1517

[EPA-HQ-OMS-2024-0148; FRL-12938-02-OMS]

Environmental Protection Agency Acquisition Regulation (EPAAR); Special Contracting Methods; Options; Contracts

AGENCY: Environmental Protection Agency (EPA).

ACTION: Direct final rule.

SUMMARY: The Environmental Protection Agency (EPA) is issuing a direct final rule to revise a requirement for contracting officers. The requirement updates special contracting methods, transferring the approval authority for certain contracting actions from the Service Center Manager (SCM) to the Head of the Contracting Activity (HCA). This change reflects an internal reorganization of EPA's contracting functions and aims to enhance efficiency and streamline decision-making within the Agency. Because this amendment only affects EPA contracting officers, we expect no adverse impact on the public and are proceeding with a direct final rule.

DATES: This rule is effective December 2, 2025, without further notice unless the EPA receives adverse comment by October 31, 2025, If the EPA receives adverse comment, we will publish a timely withdrawal in the Federal Register informing the public that the rule will not take effect.

ADDRESSES: Submit your comments, identified by Docket ID No. EPA-HQ-OMS-2024-0148; at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit: http://www.epa.gov/dockets/commenting-epa-dockets.

FOR FURTHER INFORMATION CONTACT: Joshua Gardner, Policy, Oversight, Purchase Card, and Interagency Agreements Division, Policy Oversight Branch, Environmental Protection Agency, 1200 Pennsylvania Ave., NW, Washington, DC 20460; telephone number: 202-250-8739; email address: gardner.joshua@epa.gov.

SUPPLEMENTARY INFORMATION: The EPA is amending 1517.204 to update the approval authority from the SCM to the HCA. This adjustment aligns with internal EPA reorganization and reflects a clearer, more efficient management of contracting processes. The change pertains exclusively to EPA contracting officers and is not expected to affect the public or external stakeholders.

Currently, 1517.204 designates the SCM as the approval authority for certain contracting actions. The proposed change shifts this authority to the HCA, in line with EPA's revised contracting structure, ensuring that more centralized oversight and decision-making occur at the appropriate level of the Agency. This update will improve operational efficiency, streamline procurement processes, and enhance accountability within the Agency's contracting functions.

I. Why is the EPA using a direct final rule?

The EPA is publishing this rule without a prior proposed rulemaking because we view this as a noncontroversial action and anticipate no adverse comment. This rule is a minor administrative update that affects only the internal approval processes for EPA contracting officers. It does not impose new requirements or have a significant economic impact on entities outside the EPA. Therefore, we do not expect any substantial costs or regulatory burdens as a result of this action. If the EPA receives adverse comment, we will publish a timely withdrawal in the Federal Register informing the public that the rule will not take effect. Any parties interested in commenting must do so at this time. For further information about commenting on this rule, see the ADDRESSES section of this document.

II. Statutory and Executive Order Reviews

A. Executive Order 12866: Regulatory Planning and Review and Executive Order 13563: Improving Regulation and Regulatory Review

This action is exempt from review by the Office of Management and Budget (OMB) because it is a rule limited to internal Agency management

B. Executive Order 14192: Unleashing Prosperity Through Deregulation

This action is not an Executive Order 14192 regulatory action because this action is not significant under Executive Order 12866.

C. Paperwork Reduction Act

This action does not impose an information collection burden under the provisions of the Paperwork Reduction Act, 44 U.S.C. 3501 et seq. Burden is defined at 5 CFR 1320.3(b).

D. Regulatory Flexibility Act (RFA), as amended by the Small Business Regulatory Enforcement Fairness Act of 1996 (SBREFA), 5 U.S.C. 601 et seq.

I certify that this action will not have a significant economic impact on a substantial number of small entities under the RFA. This action will not impose any requirements on small entities. This action is revising an existing EPAAR section that will not have a significant economic impact on a substantial number of small entities. We have therefore concluded that this action will have no net regulatory burden for all directly regulated small entities.

E. Unfunded Mandates Reform Act

This action does not contain an unfunded mandate of $100 million (adjusted annually for inflation) or more (in 1995 dollars) as described in UMRA, 2 U.S.C. 1531-1538, and does not significantly or uniquely affect small governments. The action imposes no enforceable duty on any state, local or tribal governments or the private sector.

F. Executive Order: Federalism

This rule does not have federalism implications. It will not have substantial direct effects on the States, on the relationship between the national government and the States, or on the distribution of power and responsibilities among the various levels of government.

G. Executive Order 13175: Consultation and Coordination With Indian Tribal Governments

This rule does not have tribal implications as specified in Executive Order 13175. This rule applies to Federal contracting officers at the EPA and does not require consultation or coordination with Indian tribal governments. Thus, Executive Order 13175 does not apply to this action.

H. Executive Order 13045: Protection of Children From Environmental Health and Safety Risks

This rule is not subject to E.O. 13045 because it is not an economically significant rule as defined by Executive Order 12866, and because it does not involve decisions on environment health or safety risks.

I. Executive Order 13211: Actions That Significantly Affect Energy Supply, Distribution, or Use

This action is not subject to Executive Order 13211, because it is not a significant regulatory action under Executive Orders 12866.

J. National Technology Transfer and Advancement Act (NTTAA)

This rule does not involve technical standards.

K. Congressional Review Act

This rule is exempt from the CRA because it is a rule of agency organization, procedure or practice that does not substantially affect the rights or obligations of non-agency parties.

List of Subjects in 48 CFR Part 1517

Environmental protection, Government procurement.

Pamela Legare,
Director, Office of Acquisition Solutions (OAS).

For the reasons stated in the preamble, 48 CFR part 1517 is amended as set forth below:

PART 1517—SPECIAL CONTRACTING METHODS

1. The authority citation for part 1517 continues to read as follows:

Authority: 5 U.S.C. 301; Sec. 205(c), 63 Stat. 390, as amended, 40 U.S.C. 486(c); and 41 U.S.C. 418b.

2. Revise § 1517.204 to read as follows:

§ 1517.204 Contracts.

The Agency head of the contracting activity (HCA) may approve a proposed contract with a base period and option periods which total in excess of five (5) years as set forth at Federal Acquisition Regulation (FAR) 17.204(e), unless otherwise prohibited by statute. The Contracting Officer must prepare for approval a Determination and Findings (D&F) regarding the need to exceed five (5) years. The D&F shall include sufficient detail to support the recommended action and address the benefit to the agency.

[FR Doc. 2025-18287 Filed 9-19-25; 8:45 am]

BILLING CODE 6560-50-P